FEDERAL MINE SAFETY AND HEALTH REVIEW COMMISSION

Sunshine Act Meeting

June 23, 2004.

Federal Register Citation of Previous Announcement: Vol. 69, No. 116, at 33,945, June 17, 2004.

Time and Date: 1:30 p.m., Tuesday, June 29, 2004.

Place: The Richard V. Backley Hearing Room, 9th Floor, 601 New Jersey Avenue, NW., Washington, DC.

Status: Open.

Matters To Be Considered: The Commission will hear oral argument on an appeal of Twentymile Coal Company from the decision of an administrative law judge in Secretary of Labor v. Twentymile Coal Company, Docket No. WEST 2002-194. (Issues include whether the judge correctly determined that the Secretary of Labor properly cited Twentymile Coal Company for violations of mandatory safety standards committed by its independent contractor.)

The time and location for this oral argument have been changed. It was previously scheduled for 1 p.m. on June 29, 2004 at the U.S. Department of Labor Auditorium, 200 Constitution Avenue, NW., Washington, DC. No earlier announcement of the change in time and location was possible.

Any person attending this oral argument who requires special accessibility features and/or auxiliary aids, such as sign language interpreters, must inform the Commission in advance of those needs. Subject to 29 CFR 2706.150(a)(3) and 2706.160(d).

Contact Person For More Information: Jean Ellen (202) 434-9950/(202) 708-9300 for TDD Relay/1-800-877-8339 for toll free.

Jean H. Ellen,
Chief Docket Clerk.

[FR Doc. 04-15091 Filed 6-29-04; 12:28 pm]

BILLING CODE 6735-01-M